DEPARTMENT OF THE INTERIOR

Fish and Wildlife Service

[FWS-R2-ES-2015-N022; FXES11130200000-156-FF02ENEH00]

Endangered and Threatened Species Permit Applications; Correction

AGENCY: Fish and Wildlife Service, Interior.

ACTION: Notice of receipt of applications; request for public comment; correction.

SUMMARY: We, the U.S. Fish and Wildlife Service, correct a typographical error in a recently published notice that announced our receipt of applications. Due to the inadvertent typographical error, the prior notice mischaracterized the area of translocation for a species for which the applicant seeks a permit. The error is not in the application materials, but only in one section of our previous Federal Register notice. If you requested documents for review, you need not request them again.

DATES: To ensure consideration, written comments must be received on or before February 17, 2015.

ADDRESSES: Susan Jacobsen, Chief, Division of Classification and Restoration, by U.S. mail at Division of Classification and Recovery, U.S. Fish and Wildlife Service, P.O. Box 1306, Albuquerque, NM 87103; or by telephone at 505-248-6920.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Correction

Due to an inadvertent typographical error, our January 15, 2015 (80 FR 2118), Federal Register notice did not accurately reflect the translocation activities for one of the species for which we will consider issuing a recovery permit. In the Applications Available for Review and Comment section of the notice, for Permit TE091551 (applicant: U.S. Fish and Wildlife Service), Vermejo Park Ranch should not have been included as a translocation site. The correct description of the permit application reads as follows:

Permit TE-091551

Applicant: U.S. Fish and Wildlife Service—Mexican Wolf Recovery Program, Albuquerque, New Mexico.

Applicant requests a renewal to a current permit for research and recovery purposes to conduct the following activities for Mexican gray wolf (Canis lupis baileyi) within Arizona and New Mexico: Capture, including, but not limited to, leg-hold traps, helicopter or ground darting and net-gunning, and captive capture methods; handle; possession; administration of health care; propagation; radio collar or other marking techniques; release; obtain and preserve blood, tissue, semen, ova, and other samples that are considered parts of wolves (scat is not considered a part of a wolf and can be collected without a permit); translocate; transport between approved Mexican wolf captive management facilities in the United States and Mexico; to approved release sites; and purposeful lethal take (lethal take is limited to Mexican wolves within the MWEPA in Arizona and New Mexico); hazing via less-than-lethal projectiles; injurious harassment; research; and any other USFWS-approved husbandry practice or management action for Mexican wolves.

Obtaining Documents for Review

Please note that all the documents we made available from the date of publication of our earlier notice (January 15, 2015) are correct. If you already obtained any documents for review, you do not need to request new copies.

National Environmental Policy Act (NEPA)

In compliance with the NEPA (42 U.S.C. 4321 et seq.), we have analyzed the proposed activities in permit TE091551 in the Final Environmental Impact Statement for the Proposed Revision to the Regulations for the Nonessential Experimental Population of the Mexican Wolf (Canis lupus baileyi) (November 2014).

Dated: January 23, 2015.
Joy E. Nicholopoulos,
Acting Regional Director, Southwest Region, U.S. Fish and Wildlife Service.

[FR Doc. 2015-01662 Filed 1-26-15; 4:15 pm]

BILLING CODE 4310-55-P